INTERNATIONAL TRADE COMMISSION

[Investigation No. 337-TA-1163]

Certain Light-Emitting Diode Products, Systems, and Components Thereof; Commission Determination Not To Review an Initial Determination Amending the Complaint and Notice of Investigation

AGENCY: U.S. International Trade Commission.

ACTION: Notice.

SUMMARY: Notice is hereby given that the U.S. International Trade Commission has determined not to review an initial determination (“ID”) (Order No. 9) of the presiding Administrative Law Judge (“ALJ”) granting complainants' motions to amend the complaint and notice of investigation.

FOR FURTHER INFORMATION CONTACT: Michael Liberman, Esq., Office of the General Counsel, U.S. International Trade Commission, 500 E Street SW, Washington, DC 20436, telephone (202) 205-3115. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: On June 25, 2019, the Commission instituted Inv. No. 337-TA-1163, Certain Light-Emitting Diode Products, Systems, and Components Thereof under section 337 of the Tariff Act of 1930, as amended, 19 U.S.C. 1337 (“section 337”), based on a complaint filed by Lighting Science Group Corporation of Cocoa Beach, Florida; Healthe, Inc. of Cocoa Beach, Florida; and Global Value Lighting, LLC of West Warwick, Rhode Island (collectively, “Complainants”). 84 Fed. Reg. 29877-79 (June 25, 2019). The complaint, as amended, alleges a violation of section 337 by reason of infringement of certain claims of U.S. Patent Nos. 7,098,483; 7,095,053; 8,506,118 (“the '118 patent”); 7,528,421; 8,674,608; 8,201,968; and 8,967,844. The notice of investigation (“NOI”) names numerous respondents. The Commission's Office of Unfair Import Investigations was not named as a party. Id. at 29878.

On September 6, 2019, Complainants filed a motion (Motion Docket No. 1163-004 (“Mot. 004”)) seeking leave to amend the complaint and NOI to add allegations of infringement of claim 9 of the '118 patent against respondents MLS Co., Ltd. of Zhongshan City, China; LEDVANCE GmbH of Garching, Germany; and LEDVANCE LLC of Wilmington, Massachusetts (collectively, “MLS/LEDVANCE”). On September 11, 2019, Complainants filed a motion (Motion Docket No. 1163-005 (“Mot. 005”)) seeking leave to amend the complaint and NOI to add allegations of infringement of claim 9 of the '118 patent against respondents Acuity Brands, Inc. of Wilmington, Massachusetts and Acuity Brands Lighting, Inc. of Conyers, Georgia (collectively, “Acuity”).

On September 16, 2019, the ALJ issued the subject ID (Order No. 9) granting the motions. The ID finds that good cause exists to allow the proposed amendments because Complainants did not obtain facts showing the alleged infringement of claim 9 until after receiving discovery from MLS/LEDVANCE and Acuity. ID at 2 (citing Mot. 004 at 4-6; Mot. 005 at 4-6). The ID further finds that any potential prejudice to MLS/LEDVANCE and Acuity is minimal because claim 9 comprises elements similar to elements present in claims already asserted against these parties. Id. at 2-3 (citing Mot. 004 at 3-4; Mot. 005 at 3-4). The ID also finds that adding claim 9 to this investigation would not expand the scope of discovery or enlarge the pool of accused products. Id. at 3 (citing Mot. 004 at 4; Mot. 005 at 4). No party petitioned for review of the ID.

The Commission has determined not to review the subject ID.

The authority for the Commission's determination is contained in section 337 of the Tariff Act of 1930, as amended, 19 U.S.C. 1337, and in Part 210 of the Commission's Rules of Practice and Procedure, 19 CFR part 210.

By order of the Commission.
Issued: October 8, 2019.
Lisa Barton,
Secretary to the Commission.

[FR Doc. 2019-22338 Filed 10-11-19; 8:45 am]

BILLING CODE 7020-02-P